DEPARTMENT OF COMMERCE

National Oceanic and Atmospheric Administration

RIN 0648-XD017

Appointments to a Recreational Fisheries Working Group by the Marine Fisheries Advisory Committee

AGENCY: National Marine Fisheries Service (NMFS), National Oceanic and Atmospheric Administration (NOAA), Commerce.

ACTION: Notice; request for applications.

SUMMARY: Applications are being solicited for appointment to a Recreational Fisheries Working Group of the Marine Fisheries Advisory Committee (MAFAC). The members will be appointed by MAFAC in consultation with NOAA and will serve for an initial term of up to two years, with the option to apply for re-appointment. The term would begin in February 2014. Nominees should possess demonstrable expertise in one or more of the following: The management or business of recreational fishing and/or fisheries science; a well-informed background in recreational fisheries issues; an operational knowledge of federal agencies and interactions with the Fishery Management Councils and/or regional and state partners; and be able to fulfill the time commitments required for up to one annual meeting, and conference calls quarterly.

DATES: Applications must be received on or before January 22, 2014, via mail or email.

ADDRESSES: Applications should be sent to Danielle Rioux, Recreational Fisheries Policy Specialist, NMFS SF-13336, 1315 East-West Highway, Silver Spring, MD 20910 or Danielle.Rioux@noaa.gov.

FOR FURTHER INFORMATION CONTACT: Danielle Rioux, Recreational Fisheries Policy Specialist; (301) 427-8516; email: Danielle.Rioux@noaa.gov.

SUPPLEMENTARY INFORMATION: MAFAC is the only federal advisory committee with the responsibility to advise the Secretary of Commerce on all matters concerning living marine resources that are the responsibility of the Department of Commerce. MAFAC established a Recreational Fisheries Working Group (RFWG) in 2010, to assist it in the development of recommendations to the Secretary on regulations, policies and programs critical to the mission and goals of the NMFS. The RFWG is composed of people with a specific interest and qualification related to NOAA's recreational fisheries-related activities. The RFWG is composed of up to 25 members who are selected to achieve a balance of the diverse national and regional recreational fisheries sector and community perspectives. With this solicitation up to 16 seats on the RFWG will be filled.

MAFAC established the RFWG to advise MAFAC on issues of importance to the recreational fishing community, such as, but not limited to: (1) Review and possible revision of the NOAA National and Regional Recreational Fisheries Action Agendas, (2) planning for and participation in a National Saltwater Recreational Fishing Summit, and (3) such other recreational fisheries issues and activities identified as appropriate by MAFAC.

The RFWG members cannot be employed by NOAA or a member of a Regional Fishery Management Council or have been registered as a lobbyist with the Secretary of the Senate and the Clerk of the House of Representatives within two years of the date of appointment. Membership is voluntary, and except for reimbursable travel and related expenses, service is without pay.

Each submission should provide the applicant's name and affiliation (i.e., private angler, charterboat, trade association, etc.); contact information including address, phone number, fax number, and email address (if available); and should describe the applicant's qualifying experience in the following areas:

1. Expertise in the management or business of recreational fishing, and/or fisheries science;

2. Informed background in recreational fisheries issues; and

3. Operational knowledge of federal agencies and interactions with the Fishery Management Councils and/or regional and state partners.

Letters of support will be accepted and may be submitted with the application or separately. Applications and letter(s) of support should be sent to (see ADDRESSES) and must be received by (see DATES). The full text of the MAFAC Charter and its current membership can be viewed at the NMFS Web page at www.nmfs.noaa.gov/mafac.htm.

Dated: December 17, 2013.
Alan D. Risenhoover,
Director, Office of Sustainable Fisheries, performing the functions and duties of the Deputy Assistant Administrator for Regulatory Programs, National Marine Fisheries Service.

[FR Doc. 2013-30523 Filed 12-20-13; 8:45 am]

BILLING CODE 3510-22-P